DEPARTMENT OF ENERGY

Federal Energy Regulatory Commission

Combined Notice of Filings #1

Take notice that the Commission received the following exempt wholesale generator filings:

Docket Numbers: EG18-74-000.

Applicants: GenOn Holdco 10, LLC.

Description: Notice of Self-Certification of Exempt Wholesale Generator Status.

Filed Date: 4/12/18.

Accession Number: 20180412-5052.

Comments Due: 5 p.m. ET 5/3/18.

Take notice that the Commission received the following electric rate filings:

Docket Numbers: ER17-2577-001.

Applicants: York Haven Power Company, LLC.

Description: Report Filing: Refund Report Docket No. ER17-2577-001 to be effective N/A.

Filed Date: 4/12/18.

Accession Number: 20180412-5050.

Comments Due: 5 p.m. ET 5/3/18.

Docket Numbers: ER18-660-001.

Applicants: Southwest Power Pool, Inc.

Description: Compliance filing: 3390 SWPA & South Central MCN Int Agr Compliance Filing to be effective 3/31/2018.

Filed Date: 4/12/18.

Accession Number: 20180412-5066.

Comments Due: 5 p.m. ET 5/3/18.

Docket Numbers: ER18-1094-001.

Applicants: Florida Power & Light Company.

Description: Tariff Amendment: FPL Revisions to LCEC Rate Schedule No. 317 to be effective 1/1/2016.

Filed Date: 4/12/18.

Accession Number: 20180412-5120.

Comments Due: 5 p.m. ET 5/3/18.

Docket Numbers: ER18-1095-001.

Applicants: Florida Power & Light Company.

Description: Tariff Amendment: FPL Revisions to FKEC Rate Schedule No. 322 to be effective 1/1/2016.

Filed Date: 4/12/18.

Accession Number: 20180412-5121.

Comments Due: 5 p.m. ET 5/3/18.

Docket Numbers: ER18-1275-002.

Applicants: Mid-Atlantic Interstate Transmission, LLC, PJM Interconnection, L.L.C.

Description: Tariff Amendment: MAIT submits Supplemental Filing re: OIA SA No. 4929 to be effective 6/1/2018.

Filed Date: 4/12/18.

Accession Number: 20180412-5045.

Comments Due: 5 p.m. ET 5/3/18.

Docket Numbers: ER18-1344-000.

Applicants: California Independent System Operator Corporation.

Description: § 205(d) Rate Filing: 2018-04-011 Congestion Revenue Rights Auction Efficiency Track 1A Amendment to be effective 7/1/2018.

Filed Date: 4/11/18.

Accession Number: 20180411-5167.

Comments Due: 5 p.m. ET 5/2/18.

Docket Numbers: ER18-1345-000.

Applicants: High Prairie Wind Farm II, LLC.

Description: § 205(d) Rate Filing: Revised MBR Tariff to be effective 4/13/2018.

Filed Date: 4/12/18.

Accession Number: 20180412-5046.

Comments Due: 5 p.m. ET 5/3/18.

Docket Numbers: ER18-1346-000.

Applicants: Pioneer Prairie Wind Farm I, LLC.

Description: § 205(d) Rate Filing: Revised MBR Tariff to be effective 4/13/2018.

Filed Date: 4/12/18.

Accession Number: 20180412-5065.

Comments Due: 5 p.m. ET 5/3/18.

Docket Numbers: ER18-1347-000.

Applicants: Rail Splitter Wind Farm, LLC.

Description: § 205(d) Rate Filing: Revised MBR Tariff to be effective 4/13/2018.

Filed Date: 4/12/18.

Accession Number: 20180412-5069.

Comments Due: 5 p.m. ET 5/3/18.

Docket Numbers: ER18-1348-000.

Applicants: Lone Valley Solar Park I LLC.

Description: § 205(d) Rate Filing: Revised MBR Tariff to be effective 4/13/2018.

Filed Date: 4/12/18.

Accession Number: 20180412-5104.

Comments Due: 5 p.m. ET 5/3/18.

Docket Numbers: ER18-1349-000.

Applicants: Lone Valley Solar Park II LLC.

Description: § 205(d) Rate Filing: Revised MBR Tariff to be effective 4/13/2018.

Filed Date: 4/12/18.

Accession Number: 20180412-5114.

Comments Due: 5 p.m. ET 5/3/18.

Docket Numbers: ER18-1350-000.

Applicants: New England Power Company.

Description: Tariff Cancellation: Notice of Cancellation of Reimbursement Agreement with Granite Reliable Power to be effective 11/1/2017.

Filed Date: 4/12/18.

Accession Number: 20180412-5116.

Comments Due: 5 p.m. ET 5/3/18.

Docket Numbers: ER18-1351-000.

Applicants: Virginia Electric and Power Company, PJM Interconnection, L.L.C.

Description: § 205(d) Rate Filing: VEPCO submits revisions to OATT, Attachment H-16A re: Depreciation Rate to be effective 6/15/2018.

Filed Date: 4/12/18.

Accession Number: 20180412-5118.

Comments Due: 5 p.m. ET 5/3/18.

Docket Numbers: ER18-1352-000.

Applicants: Rising Tree Wind Farm LLC.

Description: § 205(d) Rate Filing: Revised MBR Tariff to be effective 4/13/2018.

Filed Date: 4/12/18.

Accession Number: 20180412-5119.

Comments Due: 5 p.m. ET 5/3/18.

Docket Numbers: ER18-1353-000.

Applicants: Southern California Edison Company.

Description: § 205(d) Rate Filing: Amended IFA Between SCE and AEPCO and Notices of Cancellation to be effective 4/13/2018.

Filed Date: 4/12/18.

Accession Number: 20180412-5124.

Comments Due: 5 p.m. ET 5/3/18.

Docket Numbers: ER18-1354-000.

Applicants: Rising Tree Wind Farm II LLC.

Description: § 205(d) Rate Filing: Revised MBR Tariff to be effective 4/13/2018.

Filed Date: 4/12/18.

Accession Number: 20180412-5136.

Comments Due: 5 p.m. ET 5/3/18.

Docket Numbers: ER18-1355-000.

Applicants: Rising Tree Wind Farm III LLC.

Description: § 205(d) Rate Filing: Revised MBR Tariff to be effective 4/13/2018.

Filed Date: 4/12/18.

Accession Number: 20180412-5152.

Comments Due: 5 p.m. ET 5/3/18.

Docket Numbers: ER18-1356-000.

Applicants: Louisville Gas and Electric Company, Kentucky Utilities Company.

Description: Notice of Cancellation of Network Operating Agreement (Third Revised Service Agreement 14) of Louisville Gas and Electric Company, et al.

Filed Date: 4/12/18.

Accession Number: 20180412-5166.

Comments Due: 5 p.m. ET 5/3/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 12, 2018.
Nathaniel J. Davis, Sr.,
Deputy Secretary.

[FR Doc. 2018-08075 Filed 4-17-18; 8:45 am]

BILLING CODE 6717-01-P